DEPARTMENT OF ENERGY

Federal Energy Regulatory Commission

[Docket No. OR18-16-000]

Petition for Expedited Action Addressing the Impact of Federal Income Tax Changes on Indexed Rate Increases for Oil Pipelines; Notice Inviting Comments

Take notice that on February 28, 2018, pursuant to Rule 207 of the Federal Energy Regulatory Commission's (Commission) Rules of Practice and Procedure, 18 CFR 385.207 (2017), the Liquids Shippers Group submitted this Petition and request that the Commission take expedited action to address the impact of the federal income tax changes on indexed rate increases for oil pipelines.

Any interested persons may file comments or reply comments. Comments are due Thursday, April 12, 2018, at 5:00 p.m. (Eastern time). Reply Comments are due Friday, April 27, 2018, at 5:00 p.m. (Eastern time).

The Commission encourages electronic submission comments in lieu of paper using the “eFiling” link at http://www.ferc.gov. Persons unable to file electronically should submit an original and 5 copies of the protest or intervention to the Federal Energy Regulatory Commission, 888 First Street, NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Dated: March 12, 2018.
Kimberly D. Bose,
Secretary.

[FR Doc. 2018-05429 Filed 3-19-18; 8:45 am]

BILLING CODE 6717-01-P